FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011737-010.

Title: The MCA Agreement.

Parties: Atlantic Container Line AB; Alianca Navegacao e Logistica LTDA; A.P. Moller-Maersk Sealand; Antillean Marine Shipping Corporation; Bernuth Lines; CMA CGM, S.A.; Companhia Libra De Navegacao; Compania Sud Americana De Vapores S.A.; CP Ships (UK) Limited, d/b/a ANZDL and d/b/a Contship Containerlines; Crowley Liner Services, Inc.; Hamburg-Sud; Dole Ocean Cargo Express, Inc.; Great White Fleet (US) Ltd.; Hapag-Lloyd Container Linie GmbH; Italia Di Navegazione S.P.A. King Ocean Central America S.A.; King Ocean Service De Colombia S.A.; King Ocean Service De Venezuela S.A.; Lykes Lines Limited, LLC; Montemar Maritima S.A.; Norasia Container Line Limited; P&O Nedlloyd Limited; Safmarine Container Lines N.V.; TMM Lines Limited, LLC; Tropical Shipping & Construction Co., Ltd.; and Wallenius Wilhelmsen Lines AS.

Synopsis: The amendment modifies the membership of the agreement by adding Bernuth Lines, Ltd and Italia Di Navegazione S.P.A. and deleting Network Shipping Ltd. and Nippon Yusen Kaisha.

Agreement No.: 011799-001.

Title: Evergreen/Lloyd Triestino/Hatsu Marine Alliance—TSA Bridging Agreement.

Parties: Evergreen Marine Corp. (Taiwan) Ltd.; Lloyd Triestino di Navegazione S.p.A.; Hatsu Marine Limited; American President Lines, Ltd. and APL Co. Pte Ltd. (operating as one carrier); A.P. Moller-Maersk Sealand; CMA CGM S.A.; COSCO Container Lines Ltd.; Hanjin Shipping Co., Ltd.; Hapag-Lloyd Container Linie GmbH; Hyundai Merchant Marine Co., Ltd.; Kawasaki Kisen Kaisha, Ltd.; Mitsui O.S.K. Lines, Ltd.; Nippon Yusen Kaisha; Orient Overseas Container Line Limited; P&O Nedlloyd B.V.; P&O Nedlloyd Limited; Yangming Marine Transport Corp.

Synopsis: The proposed amendment would extend the duration of the agreement through June 15, 2004. The parties request expedited review because the agreement is due to expire on June 8, 2003.

Agreement No.: 011802-002.

Title: Evergreen/Lloyd Triestino/Hatsu Marine Alliance—WTSA Bridging Agreement.

Parties: Evergreen Marine Corp. (Taiwan) Ltd.; Lloyd Triestino di Navegazione S.p.A.; Hatsu Marine Limited; American President Lines, Ltd. and APL Co. Pte Ltd. (operating as one carrier); China Shipping Container Lines Co., Ltd.; COSCO Container Lines Ltd.; Hanjin Shipping Co., Ltd.; Hapag-Lloyd Container Linie GmbH; Hyundai Merchant Marine Co., Ltd.; Kawasaki Kisen Kaisha, Ltd.; Mitsui O.S.K. Lines, Ltd.; Nippon Yusen Kaisha; Orient Overseas Container Line Limited; P&O Nedlloyd B.V.; P&O Nedlloyd Limited; Yangming Marine Transport Corp.

Synopsis: The proposed amendment would extend the duration of the agreement through June 15, 2004. The parties request expedited review because the agreement is due to expire on June 15, 2003.

Agreement No.: 011853.

Title: CCNI/Lykes/Maruba Transpacific Vessel Sharing Agreement.

Parties: Maruba S.C.A., Lykes Lines Limited, LLC, Compania Chilena de Navegacion Interoceanica.

Synopsis: The agreement authorizes the parties to operate a weekly container liner service between Long Beach, California, and the PRC and sets forth the allocation of space and other matters related to the service. The parties request expedited review.

By Order of the Federal Maritime Commission.
Dated: May 9, 2003.
Bryant L. VanBrakle,
Secretary.

[FR Doc. 03-12032 Filed 5-13-03; 8:45 am]

BILLING CODE 6730-01-P